DEPARTMENT OF COMMERCE

Patent and Trademark Office

[Docket No.: PTO-C-2025-0281]

Performance Review Board

AGENCY: United States Patent and Trademark Office, Commerce.

ACTION: Notice of revised board members and agency appointing authority.

SUMMARY: In conformance with the Civil Service Reform Act of 1978, the United States Patent and Trademark Office (USPTO) announces the appointment of persons to serve as members of its Performance Review Board (PRB). This is an update to the recently published Federal Register notice (published on July 25, 2025), to reflect board members serving in the role of their official position of record as the Deputy Under Secretary of Commerce for Intellectual Property and Deputy Director of the USPTO and the Chief Compliance Officer.

ADDRESSES: Office of Human Resources, USPTO, P.O. Box 1450, Alexandria, VA 22313-1450.

FOR FURTHER INFORMATION CONTACT: Carolyn Schad, Acting Director, Human Capital Management, USPTO, at 571-272-7003.

SUPPLEMENTARY INFORMATION: The membership of the USPTO's PRB is as follows:

Coke M. Stewart, Chair, Deputy Under Secretary of Commerce for Intellectual Property and Deputy Director of the USPTO

William Covey, Chief Compliance Officer, USPTO

Christopher J. Shipp, Chief of Staff, USPTO

Anne T. Mendez, Vice Chair, Acting Chief Administrative Officer, USPTO

Valencia Martin-Wallace, Acting Commissioner for Patents, USPTO

John A. Squires,
Under Secretary of Commerce for Intellectual Property and Director of the United States Patent and Trademark Office.

[FR Doc. 2025-19774 Filed 11-3-25; 8:45 am]

BILLING CODE 3510-16-P